DEPARTMENT OF ENERGY

Federal Energy Regulatory Commission

[Project No. 13466-003]

City of Gresham; Notice of Effectiveness of Surrender

On October 18, 2011, the Commission issued an Order Granting Exemption from Licensing (Conduit) ¹ to the City of Gresham (exemptee) for the proposed City of Gresham Wastewater Treatment Plant Outfall Hydroelectric Project, FERC No. 13466. The small conduit hydropower project would be located at the exemptee's Wastewater Treatment Plant, in Multnomah County, Oregon.

¹ City of Gresham, 137 FERC ¶ 62,053 (2011).

On October 21, 2014, the exemptee filed an application with the Commission to surrender the exemption. The exemptee has reevaluated the economics of the project and has decided not to move forward with construction of the project, citing insufficient economic returns and cheaper alternatives in reducing greenhouse gas emissions.

Accordingly, the Commission accepts the exemptee's surrender of its exemption from licensing, effective 30 days from the date of this notice, at the close of business on Thursday, December 18, 2014. No license, exemption, or preliminary permit applications for the project site may be filed until Friday, December 19, 2014.

Dated: November 19, 2014.
Kimberly D. Bose,
Secretary.

[FR Doc. 2014-28013 Filed 11-25-14; 8:45 am]

BILLING CODE 6717-01-P